DEPARTMENT OF HEALTH AND HUMAN SERVICES

Health Resources and Services Administration

Agency Information Collection Activities: Proposed Collection; Comment Request

In compliance with the requirement for the opportunity for public comment on proposed data collection projects (section 3506(c)(2)(A) of title 44, United States Code, as amended by the Paperwork Reduction Act of 1995 (Public Law 104-13), the Health Resources and Services Administration (HRSA) publishes periodic summaries of proposed projects being developed for submission to the Office of Management and Budget (OMB) under the Paperwork Reduction Act of 1995. To request more information on the proposed grant information collection activity or to obtain a copy of the data collection plan and draft instruments, call the HRSA Reports Clearance Officer at (301) 443-1129.

Comments are invited on: (a) Whether the proposed collection of information is necessary for proper performance of grantee functions including whether the information will have practical utility; (b) the accuracy of the burden estimate of the proposed collection of information; (c) ways to enhance the quality, utility and clarity of the information to be collected; and (d) ways to minimize the information collection burden on respondents, including the use of automated collection methods or other types of information technology.

Proposed Project: Ryan White Comprehensive AIDS Resources Emergency (CARE) Act Title II Grant Application Supplements: In Use Without Approval

The CARE Act (codified under Title XXVI of the Public Health Service Act) was first enacted by Congress in 1990, and reauthorized in 1996 and 2000. It addresses the unmet health needs of persons living with HIV disease by funding primary health care and support services that enhance access to and retention in care. The CARE Act funded services reach over 500,000 individuals; after Medicaid and Medicare, it is the largest single source of Federal funding for HIV/AIDS care for low-income, uninsured, and underinsured Americans. The Title II Care Grant Program (CGP) provides formula grants to all 50 States; the District of Columbia; the Commonwealth of Puerto Rico; the Territories of the Virgin Islands, Guam, and American Samoa; the Commonwealth of the Northern Mariana Islands, the Republic of Palau, the Federated States of Micronesia, and the Republic of the Marshall Islands. Funding is disbursed to these grantees by HRSA based on a Congressionally mandated formula.

The purpose of the Title II CGP is to assist States and Territories in developing and/or enhancing access to a comprehensive continuum of high quality, community based care for low-income individuals and families living with HIV. Grantees may allocate funds to five legislatively authorized program components: (1) HIV Care Consortia, to provide comprehensive outpatient health and support services, such as early intervention services, outpatient medical care, case management, substance abuse treatment, mental health services, transportation; (2) Home- and Community-Based Care; (3) Health-Insurance Continuation, including risk pools; (4) Provision of Treatments for HIV disease or to prevent the serious deterioration of health arising from HIV disease; and (5) State Direct Services, which are HIV/AIDS outpatient health or support service provided through State delivery mechanisms determined by the grantee to be more effective than providing the service(s) through consortia.

The Title II Grant Application Supplements have been designed to collect information from States and Territories in a consistent, standard way when they apply for a grant. This information is needed to determine that funds are being used as intended by the Congress and in compliance with CARE Act mandates. This includes requirements that grantees: (a) Obligate Title II funds quickly, closely monitor their use, and ensure that they are used as the payer of last resort (Supplement 1); (b) satisfy the Maintenance of Effort requirement and ensure that Title II funds are used to supplement, and not supplant, existing State expenditures for HIV-related care and treatment services (Supplement 2); (c) include a determination of the size and demographics of the population of people living with HIV in the State/Territory (Supplement 3); and (d) have prepared a comprehensive plan describing the organization and delivery of HIV health care and support services to be funded under Title II that is based on the size and demographics of the population of individuals with HIV and their needs, the availability of other non-governmental and governmental resources (including Medicaid and SCHIP), any capacity development needs resulting from disparities in the availability of HIV-related services in historically underserved communities and rural communities, and the efficiency of the administrative mechanism of the State for rapidly allocating funds to areas of greatest need within the State/Territory).

In addition, HRSA uses the collected information as a benchmark for monitoring grantee performance during the fiscal year; to identify individual and cross cutting grantee technical assistance needs; and to detect emerging HIV/AIDS care services issues that may require changes in existing program policies or procedures.

The Title II Application Supplements will be transmitted by mail and electronically to all States and Territories and made available through the HRSA web site. Applicants will submit the Supplements electronically along with Form PHS-5161-1 (Revised 7/00), SF-424 and the program narrative portion of their application, using the Grants Management electronic transmission mechanisms established by HRSA. The Supplements will include check box responses; fields for reporting numeric fiscal and epidemiological data; and text boxes for describing other required information. The Supplements will automatically generate totals when appropriate, and have other automated fields to minimize the time required to insert identifying information.

The Supplements will require Title II applicants/grantees to report local epidemiological information and some fiscal and programmatic data collected from Title II funded contractors (sub-grantees), which grantees have been collecting and reporting since FY 1995 or earlier. The approximate response burden for applicants/grantees is estimated as:

Estimated number of grantee respondents | Estimated responses per grantee | Total number of responses | Hours per response | Estimated total hour burden
59 | 1 | 59 | 8 | 472

Send comments to Susan G. Queen, PhD, HRSA Reports Clearance Officer, Room 14-33, Parklawn Building, 5600 Fishers Lane, Rockville, MD 20857. Written comments should be received within 60 days of this notice.

Dated: December 16, 2003.
Tina M. Cheatham,
Acting Director, Division of Policy Review and Coordination.

[FR Doc. 03-31428 Filed 12-19-03; 8:45 am]

BILLING CODE 4165-15-P